DEPARTMENT OF COMMERCE

National Oceanic and Atmospheric Administration

50 CFR Part 648

[Docket No. 041110317-4364-02; I.D. 053105F]

Fisheries of the Northeastern United States; Summer Flounder Fishery; Quota Transfer

AGENCY: National Marine Fisheries Service (NMFS), National Oceanic and Atmospheric Administration (NOAA), Commerce.

ACTION: Temporary rule; inseason quota transfer.

SUMMARY: NMFS announces that it has approved the request of the State of North Carolina to transfer 82,774 lb (37,546 kg) of commercial summer flounder quota to the States of Maine, Connecticut, New York, and Maryland, and the Commonwealth of Massachusetts, in accordance with the Atlantic States Marine Fisheries Commission (ASMFC) Addendum XV to the Summer Flounder, Scup, and Black Sea Bass Fishery Management Plan (FMP). By this action, NMFS adjusts the quotas and announces the revised commercial quota for each state involved.

DATES: Effective June 2, 2005 through December 31, 2005, unless NMFS publishes a superseding document in the Federal Register.

FOR FURTHER INFORMATION CONTACT: Mike Ruccio, Fishery Management Specialist, (978) 281-9104, FAX (978) 281-9135.

SUPPLEMENTARY INFORMATION: Regulations governing the summer flounder fishery are found at 50 CFR part 648. The regulations require annual specification of a commercial quota that is apportioned among the coastal states from North Carolina through Maine. The process to set the annual commercial quota and the percent allocated to each state are described in § 648.100.

The ASMFC adopted Addendum XV to the FMP in November 2004. The Addendum is being implemented under the adaptive management and framework procedures that are part of the FMP. Addendum XV establishes a program, for 2005 and 2006, that allocates the increase in commercial summer flounder quota (from the 2004 amount) differently than the existing allocation scheme, in order to reduce the amount of fish that must be discarded as bycatch in the commercial fishery in states with relatively low summer flounder quotas. The transfer of quota from donor states will allow recipient states to marginally increase trip limits, thereby decreasing the amount of summer flounder discarded at sea.

The final rule implementing Amendment 5 to the FMP that was published on December 17, 1993 (58 FR 65936), provided a mechanism for summer flounder quota to be transferred from one state to another. Two or more states, under mutual agreement and with the concurrence of the Administrator, Northeast Region, NMFS (Regional Administrator), can transfer or combine summer flounder commercial quota under § 648.100(d). The Regional Administrator is required to consider the criteria set forth in § 648.100(d)(3) in the evaluation of requests for quota transfers or combinations. The Regional Administrator has reviewed those criteria and approved the quota transfer requests submitted by the State of North Carolina.

Consistent with Addendum XV, North Carolina, a designated “donor state,” has voluntarily employed the quota transfer provisions of the FMP to transfer a total of 82,774 lb (37,546 kg) to be allocated as follows: Maine 1,639 lb (743 kg); Connecticut 22,917 lb (10,395 kg); New York 17,085 lb (7,750 kg); Maryland 23,153 lb (10,502 kg); and Massachusetts--17,980 lb (8,156 kg) (see Table 1).

Table 1. Summer Flounder Commercial Quota Transfers
State | Amount Transferred: lb | Amount Transferred: kg | 2005 Quota¹: lb | 2005 Quota¹: kg | 2005 Revised Quota: lb | 2005 Revised Quota: kg
North Carolina | -82,774 | -37,546 | 4,680,519 | 2,123,089 | 4,597,745 | 2,085,537
Maine | 1,639 | 743 | 9,820 | 4,454 | 11,459 | 5,198
Massachusetts | 17,980 | 8,156 | 1,191,519 | 540,473 | 1,209,499 | 548,629
Connecticut | 22,917 | 10,395 | 423,396 | 192,052 | 446,313 | 202,448
New York | 17,085 | 7,750 | 1,387,434 | 629,336 | 1,404,519 | 637,090
Maryland | 23,153 | 10,502 | 365,381 | 165,737 | 388,534 | 176,239
¹ Reflects quotas as published on May 24, 2005 (70 FR 29645), inclusive of previous Addendum XV and “safe harbor” transfers.

Classification

This action is taken under 50 CFR part 648 and is exempt from review under E.O. 12866.

Authority: 16 U.S.C. 1801 et seq.

Dated: June 1, 2005.
Alan D. Risenhoover,
Acting Director, Office of Sustainable Fisheries, National Marine Fisheries Service.

[FR Doc. 05-11289 Filed 6-2-05; 2:30 pm]

BILLING CODE 3510-22-S